DEPARTMENT OF ENERGY

Federal Energy Regulatory Commission

[Docket No. RP01-519-000]

Questar Pipeline Company; Notice of Tariff Filing

August 30, 2001.

Take notice that on August 24, 2001, Questar Pipeline Company (Questar) tendered for filing of its FERC Gas Tariff, First Revised Volume No. 1, Substitute Fourth Revised Sheet No. 80A and Original Sheet No. 80B, to be effective November 1, 2000.

On October 10, 2000, Questar filed tariff sheets in Docket No. RP01-33-000 in compliance with Order No. 587-L (the October 10 filing), which was approved by the Commission's Order On Filings to Establish Imbalance Netting and Trading Pursuant to Order Nos. 587-G and 587-L, issued on November 9, 2000. Among those tariff sheets approved, Fourth Revised Sheet No. 80A was modified to contain carry-over language and inadvertently omitted effective tariff language that was not intended for deletion. The language that was inadvertently omitted in the October 10 filing is being tendered for reinstatement in this filing. These tariff sheets contain only the previously approved language.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22330 Filed 9-5-01; 8:45 am]

BILLING CODE 6717-01-P